DEPARTMENT OF LABOR

Employment and Training Administration

[TA-W-61,204]

Gildan Activewear Malone, Inc., Bombay, NY; Notice of Termination of Investigation

Pursuant to Section 221 of the Trade Act of 1974, as amended, an investigation was initiated on March 27, 2007 in response to a worker petition filed a company official on behalf of workers at Gildan Activewear Malone, Inc., Bombay, New York.

The petitioner has withdrawn the petition. Thus, this investigation is terminated.

Signed at Washington, DC, this 5th day of April 2007.
Richard Church,
Certifying Officer, Division of Trade Adjustment Assistance.

[FR Doc. E7-7098 Filed 4-13-07; 8:45 am]

BILLING CODE 4510-FN-P